DEPARTMENT OF TRANSPORTATION

Federal Aviation Administration

14 CFR Parts 61, 63, 65, and 187

[Docket No.: FAA-2007-27043; Amendment Nos. 61-116, 63-35, 65-49, 187-4]

RIN 2120-AI77

Fees for Certification Services and Approvals Performed Outside the United States

AGENCY: Federal Aviation Administration, DOT.

ACTION: Direct final rule; confirmation of effective date.

SUMMARY: On April 12, 2007, the FAA issued a direct final rule, “Fees for Certification Services and Approvals Performed Outside the United States,” which amended the regulations pertaining to payment of fees to the Federal Aviation Administration (FAA) for certification services performed outside the United States. This rule also amended the regulations where it is unclear that fees for airmen certification services apply to all applicants located outside the United States, regardless of citizenship. This notice confirms the effective date of the direct final rule.

DATES: The effective date for the direct final rule published on April 12, 2007 (72 FR 18556) is confirmed as June 11, 2007.

ADDRESS: The complete docket for the direct final rule can be identified by Docket Number FAA-2007-27043. You may examine the docket through the DOT Docket Web site at http://dms.dot.gov or visit the Docket Management Facility at 1200 New Jersey Avenue, SE., West Building, Ground Floor, Room W12-140, Washington, DC 20590-001, between the hours of 9 a.m. and 5 p.m., Monday through Friday, except Federal holidays.

FOR FURTHER INFORMATION CONTACT: Ida M. Klepper, FAA, Office of Rulemaking, ARM-100; 800 Independence Ave., SW., Washington, DC 20591, Telephone: 202-267-9677, Fax: 202-267-5075.

SUPPLEMENTARY INFORMATION:

Background

On April 12, 2007 the FAA published a direct final rule (72 FR 18556) amending § 187.15(a) to allow the use of a credit card to pay fees to the FAA for certification services performed outside the United States. Until now, fees could only be paid by check, money order, wire transfer, or draft, payable in U.S. currency and drawn on a U.S. bank. Section 187.15(d) already allows the use of a credit card to remit amounts less than $1,000 for certain aircraft flights transiting U.S. controlled airspace. The direct final rule revised sections (a) and (d) to bring consistency to the methods of payment.

In 1995 the FAA published a final rule (60 FR 19631) amending 14 CFR part 187. During this time the FAA offices were not set up to receive credit card payments and therefore credit card payments were specifically omitted from the 1995 rulemaking. As technology advanced over the years credit card payments became an accepted practice within the FAA accounting systems and offices. Therefore the FAA began collecting user fees by credit card allowing more timely receipt and providing customers with a convenient method to pay for services.

This direct final rule also revised §§ 61.13(a)(2), 63.11 and 65.11. In the 1995 final rule that amended fees under part 187, appendix A, the issue that was specifically addressed was that user fees extended to all applicants located outside the United States, regardless of citizenship. The 1995 final rule brought these regulations in line with the nondiscrimination principles of multilateral trade agreements to which the U.S. is a signatory. Those included the principles of the General Agreement on Tariffs and Trade (GATT), including the GATT Aircraft Code and the General Agreement on Trade in Services. When part 187 was initially amended in 1995, §§ 61.13(a)(2), 63.11 and 65.11 were not revised for consistency, the direct final rule corrects this inconsistency.

Before the direct final rule became effective § 61.13(a)(2) required an “applicant who is neither a citizen of the United States nor a resident alien of the United States” to show evidence of paying the correct fee prescribed in appendix A to part 187. This evidence was to be presented when the person applied for a student pilot certificate issued outside the United States or a knowledge test or practical test administered outside the United States. The direct final rule revised the wording to make it clear that an applicant's citizenship is not at issue. The revised wording now states the fees are for “airmen certification services.” There is no need to enumerate those services because they are addressed in part 187, appendix A.

Before the direct final rule became effective §§ 63.11 and 65.11 stated: “Each person who is neither a United States citizen nor a resident alien and applies for written or practical test to be administered outside the United States for any certificate or rating issued under this part must show evidence the fee prescribed in appendix A of part 187 of this chapter has been paid.” The direct final rule revised the wording as follows: “Each person who applies for airmen certification services to be administered outside the United States for any certificate or rating issued under this part must show evidence that the fee prescribed in appendix A of part 187 of this chapter has been paid.”

Conclusion

The FAA did not receive any adverse or negative comments or a written notice of intent to file an adverse or negative comment and therefore the rulemaking became effective on June 11, 2007.

Issued in Washington, DC on September 24, 2007.
John M. Allen,
Acting Director, Flight Standards Service.

[FR Doc. E7-19246 Filed 9-27-07; 8:45 am]

BILLING CODE 4910-13-P